DEPARTMENT OF COMMERCE

National Oceanic and Atmospheric Administration

Public Meetings for Recommending a National Estuarine Research Reserve Site[s] in the Atchafalaya River Area of Louisiana

AGENCY: Office for Coastal Management, National Ocean Service, National Oceanic and Atmospheric Administration (NOAA), U.S. Department of Commerce

ACTION: Public meeting notice.

SUMMARY: Notice is hereby given that two public meetings will be held for the purpose of providing information and receiving comments on the preliminary recommendation by the State of Louisiana that portions of the Atchafalaya River area be proposed to NOAA for designation as a National Estuarine Research Reserve.

DATES: The in-person public meeting will be held at 5 p.m. Central Time on November 2, 2022, in the Morgan City Auditorium (728 Myrtle Street, Morgan City, Louisiana 70380). The virtual public meeting will be held at 5 p.m. Central Time on November 3, 2022, at the following link: meet.google.com/gya-dsaj-eob. Participants may also join the meeting by phone by using this toll-free number +1 470 485 8283, and meeting ID 749 865 797#.

ADDRESSES: Both public meetings will present the same information.

The State agency holding the meetings is the Louisiana Coastal Protection and Restoration Authority. NOAA's Office for Coastal Management will assist with the meetings.

This meeting will present the State's proposed nomination. Detailed information on the proposed site can be found on the following website: https://www.laseagrant.org/deltanerr/.

A presentation about the proposal and the National Estuarine Research Reserve System will be provided at both meetings. The views of interested persons and organizations regarding the proposed nomination are solicited. This information may be expressed verbally and in written statements. Written comments may also be sent to: Louisiana Coastal Protection and Restoration Authority, at coastal@la.gov. All written comments must be received no later than seven days following the public meetings [November 10, 2022]. All comments received will be considered by the state when formally nominating a site or sites to NOAA.

FOR FURTHER INFORMATION CONTACT: Ms. Erica Seiden, Office for Coastal Management, National Ocean Service, NOAA, 1305 East West Highway, N/OCM, Silver Spring, MD 20910 or Email: erica.seiden@noaa.gov.

SUPPLEMENTARY INFORMATION: The research reserve system is a Federal and State partnership program administered by the Federal government, specifically NOAA. The research reserve system currently has 30 sites and protects more than 1.3 million acres of estuarine and Great Lakes habitat for long-term research, monitoring, education, and stewardship. Established by the Coastal Zone Management Act of 1972, each reserve is managed by a lead State agency or university, with input from local partners. NOAA provides partial funding and national programmatic guidance.

This particular site selection effort is a culmination of several years of local, grassroots-support for a research reserve in Louisiana. The proposed site[s] presented at this meeting follow a comprehensive evaluation process that sought the views of the public, affected landowners, and other interested parties. State and local agency representatives, Tribal nations, as well as estuarine experts, served as committee members and evaluated site proposals.

Keelin S. Kuipers,
Deputy Director, Office for Coastal Management, National Ocean Service, National Oceanic and Atmospheric Administration.

[FR Doc. 2022-22710 Filed 10-18-22; 8:45 am]

BILLING CODE 3510-JE-P